ENVIRONMENTAL PROTECTION AGENCY

[EPA-HQ-OPP-2017-0720; FRL-10862-01-OCSPP]

Pesticide Registration Review; Pesticide Dockets Opened for Review and Comment; Notice of Availability

AGENCY: Environmental Protection Agency (EPA).

ACTION: Notice.

SUMMARY: This notice announces the availability of the EPA's preliminary work plans for the following chemicals: 3-decen-2-one, Bacillus amyloliquefaciens, Chromobacterium subtsugae strain PRAA4-1T cells and spent fermentation media, homobrassinolide, terpene constituents of the extract of Chenopodium ambrosioides near ambrosioides, tolclofos-methyl. This notice also announces the availability of the continuing work plan for hexythiazox. With this document, the EPA is opening the public comment period for registration review for these chemicals.

DATES: Comments must be received on or before June 5, 2023.

ADDRESSES: Submit your comments, identified by docket identification (ID) number EPA-HQ-OPP-2017-0720, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For pesticide specific information, contact: The Chemical Review Manager for the pesticide of interest identified in Table 1 in Unit IV.

For general questions on the registration review program, contact: Melanie Biscoe, Pesticide Re-Evaluation Division (7508P), Office of Pesticide Programs, Environmental Protection Agency, 1200 Pennsylvania Ave. NW, Washington, DC 20460-0001; telephone number: 202-566-0701; email address: biscoe.melanie@epa.gov.

SUPPLEMENTARY INFORMATION:

I. General Information

A. Does this action apply to me?

This action is directed to the public in general and may be of interest to a wide range of stakeholders including environmental, human health, farm worker, and agricultural advocates; the chemical industry; pesticide users; and members of the public interested in the sale, distribution, or use of pesticides. Since others also may be interested, the agency has not attempted to describe all the specific entities that may be affected by this action. If you have any questions regarding the applicability of this action to a particular entity, consult the Chemical Review Manager identified in Table 1 in Unit IV.

B. What should I consider as I prepare my comments for the EPA?

1. Submitting CBI. Do not submit this information to the EPA through regulations.gov or email. Clearly mark the part or all the information that you claim to be CBI. For CBI information in a disk or CD-ROM that you mail to the EPA, mark the outside of the disk or CD-ROM as CBI, and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. Background

Registration review is the EPA's periodic review of pesticide registrations to ensure that each pesticide continues to satisfy the statutory standard for registration, that is, the pesticide can perform its intended function without unreasonable adverse effects on human health or the environment. Registration review dockets contain information that will assist the public in understanding the types of information and issues that the agency may consider during the course of registration reviews. As part of the registration review process, the Agency has completed preliminary work plans and, in some cases, continuing work plans for the pesticides listed in Table 1 in Unit IV. Through this program, the EPA is ensuring that each pesticide's registration is based on current scientific and other knowledge, including its effects on human health and the environment.

III. Authority

The EPA is conducting its registration review of the chemicals listed in Table 1 in Unit IV pursuant to section 3(g) of the Federal Insecticide, Fungicide, and Rodenticide Act (FIFRA) and the Procedural Regulations for Registration Review at 40 CFR part 155, subpart C. Section 3(g) of FIFRA provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

IV. Registration Reviews

A. What action is the Agency taking?

A pesticide's registration review begins when the agency establishes a docket for the pesticide's registration review case and opens the docket for public review and comment. Pursuant to 40 CFR 155.50, this notice announces the availability of the EPA's preliminary or continuing work plans for the pesticides shown in Table 1 and opens a 60-day public comment period on the work plans.

Table 1—Preliminary and Continuing Work Plans Being Made Available for Public Comment
Registration review case name and No. | Docket ID No. | Chemical review manager and contact information
3-decen-2-one, Case Number 6317 | EPA-HQ-OPP-2022-0792 | Joseph Mabon, mabon.joseph@epa.gov (202) 566-1535.
Bacillus amyloliquefaciens, Case Number 6522 | EPA-HQ-OPP-2022-0159 | Susanne Cerrelli, cerrelli.susanne@epa.gov (202) 566-1516.
Chromobacterium subtsugae strain PRAA4-1T cells and spent fermentation media, Case Number 6530 | EPA-HQ-OPP-2022-0791 | Bibiana Oe, oe.bibiana@epa.gov (202) 566-1538.
Hexythiazox¹, Case Number 7404 | EPA-HQ-OPP-2006-0114 | Alex Hazlehurst, hazlehurst.alexander@epa.gov (202) 566-2249.
Homobrassinolide, Case Number 6311 | EPA-HQ-OPP-2022-0548 | Jennifer Odom-Douglas, odomdouglas.jennifer@epa.gov (202) 566-1536.
Terpene constituents of the extract of Chenopodium ambrosioides near ambrosioides, Case Number 6312 | EPA-HQ-OPP-2022-0011 | Susanne Cerrelli, cerrelli.susanne@epa.gov (202) 566-1516.
Tolclofos-methyl, Case Number 7069 | EPA-HQ-OPP-2023-0094 | Susan Bartow, bartow.susan@epa.gov (202) 566-2280.
¹ Continuing Work Plan.

B. Docket Content

The registration review docket contains information that the agency may consider in the course of the registration review. The agency may include information from its files including, but not limited to, the following information:

• An overview of the registration review case status.

• A list of current product registrations and registrants.

• Federal Register notices regarding any pending registration actions.

• Federal Register notices regarding current or pending tolerances.

• Risk assessments.

• Bibliographies concerning current registrations.

• Summaries of incident data.

• Any other pertinent data or information.

Each docket contains a document summarizing what the agency currently knows about the pesticide case and a preliminary work plan and, in some cases, a continuing work plan for anticipated data and assessment needs. Additional documents provide more detailed information. During this public comment period, the agency is asking that interested persons identify any additional information they believe the agency should consider during the registration reviews of these pesticides. The agency identifies in each docket the areas where public comment is specifically requested, though comment in any area is welcome.

The registration review final rule at 40 CFR 155.50(b) provides for a minimum 60-day public comment period on registration review work plans. This comment period is intended to provide an opportunity for public input and a mechanism for initiating any necessary changes to a pesticide's work plan. All comments should be submitted using the methods in ADDRESSES and must be received by the EPA on or before the closing date. These comments will become part of the docket for the pesticides included in Table 1 in Unit IV. Comments received after the close of the comment period will be marked “late.” The EPA is not required to consider these late comments.

The agency will carefully consider all comments received by the closing date and may provide a “Response to Comments Memorandum” in the docket. The final or updated final registration review work plan will explain the effect that any comments had on the final or updated final work plan and provide the agency's response to significant comments.

Background on the registration review program is provided at: https://www.epa.gov/pesticide-reevaluation.

Authority: 7 U.S.C. 136 et seq.

Dated: March 31, 2023.
Mary Elissa Reaves,
Director, Pesticide Re-Evaluation Division, Office of Pesticide Programs.

[FR Doc. 2023-07172 Filed 4-5-23; 8:45 am]

BILLING CODE 6560-50-P